FEDERAL EMERGENCY MANAGEMENT AGENCY

[FEMA-1401-DR]

Oklahoma; Amendment No. 3 to Notice of a Major Disaster Declaration

AGENCY: Federal Emergency Management Agency (FEMA).

ACTION: Notice.

SUMMARY: This notice amends the notice of a major disaster declaration for the State of Oklahoma, (FEMA-1401-DR), dated February 1, 2002, and related determinations.

EFFECTIVE DATE: February 12, 2002.

FOR FURTHER INFORMATION CONTACT: Madge Dale, Readiness, Response and Recovery and Directorate, Federal Emergency Management Agency, Washington, DC 20472, (202) 646-2705 or madge.dale@fema.gov.

SUPPLEMENTARY INFORMATION: The notice of a major disaster declaration for the State of Oklahoma is hereby amended to include the following areas among those areas determined to have been adversely affected by the catastrophe declared a major disaster by the President in his declaration of February 1, 2002:

Alfalfa, Beckham, Blaine, Caddo, Custer, Dewey, Grant, Kay, Logan, Major, Noble, Oklahoma, Pawnee, Roger Mills, and Washington Counties for Categories C through G under Public Assistance (already designated for debris removal and emergency protective measures (Categories A and B), including direct Federal Assistance at 75 percent Federal funding under Public Assistance and Individual Assistance).

Grady, Greer, Jackson, and Kiowa for Public Assistance (already designated for Individual Assistance).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 02-5037 Filed 3-1-02; 8:45 am]

BILLING CODE 6718-02-P